DEPARTMENT OF DEFENSE

Department of the Army; Corps of Engineers

Intent To Prepare a Draft Environmental Impact Statement for the Proposed Balanced Vision Plan, a Multipurpose Project Containing Ecosystem Restoration, Flood Risk Management, and Recreational Enhancement Alternatives Along the Trinity River Within and Adjacent to the Existing Dallas Floodway in Dallas County, Dallas, TX

AGENCY: Department of the Army, U.S. Army Corps of Engineers, DoD.

ACTION: Notice of intent.

SUMMARY: The U.S. Army Corps of Engineers (USACE), Fort Worth District, in partnership with the City of Dallas recommends the incorporation of various flood risk management measures, ecosystem restoration features, and recreational enhancements to the Dallas Floodway, located along the Trinity River in Dallas County, Dallas, TX. The Balanced Vision Plan (BVP) project aims to achieve the designed Standard Project Flood protection, maximize ecosystem restoration outputs for priority resource categories, and optimize recreational opportunities, to include providing trail connectivity to other regional visions/plans.

The USACE is preparing a Draft Environmental Impact Statement (DEIS) in response to the authority contained in the United States Senate Committee on Environment and Public Works Resolution dated April 22, 1988, and Section 5141 of the Water Resources Development Act (WRDA) of 2007. The USACE must determine the technical soundness and environmental acceptability of the authorized project. Thus, in accordance with Section 102 of the National Environmental Policy Act (NEPA) as implemented by the regulations promulgated by the Council on Environmental Quality (40 Code of Federal Regulations Parts 1500-1508 and USACE Engineering Regulation 200-2-2), the USACE will prepare the DEIS to evaluate and compare flood risk management, ecosystem restoration, and recreation alternatives along the Trinity River within and adjacent to the existing Dallas Floodway, Dallas, TX.

The BVP project study area is located within the Dallas Floodway along the Trinity River, in Dallas, TX. The study area is bounded on the upstream by the Loop 12 crossings of the West and Elm Forks and at the downstream end by the existing terminus of the Dallas Floodway approximated by the existing Dallas Area Rapid Transit (DART) Bridge. Of the 22.6 miles of levees within the study area, the East Levee is 11.7 miles in length and the West Levee is 10.9 miles in length. In addition to the levees, the Floodway includes the modified channel, six pumping plants and seven pressure conduits. There are approximately 1,422 acres of land in the study area.

FOR FURTHER INFORMATION CONTACT: For questions regarding the BVP EIS or to add your contact information to the project mailing database, please contact Mr. Jeffry A. Tripe, Regional Technical Specialist, U.S. Army Corps of Engineers, Fort Worth District, P.O. Box 17300, Fort Worth, TX, 76102-0300, (817) 886-1716, or via e-mail at Jeffry.A.Tripe@usace.army.mil.

SUPPLEMENTARY INFORMATION: The Dallas County Levee Improvement District (DCLID) constructed the original Dallas Floodway levees between 1928 and 1931. The DCLID rerouted the Trinity River by constructing a channel within the leveed floodway and filled the original river channel or used it for sump storage. In the mid-forties, major floods, compounded by continued urbanization in the watershed, resulted in increased drainage into the Dallas Floodway and severe flooding. To reduce flooding within the Dallas Floodway project area, Congress authorized the Dallas Floodway flood control project in 1945 and 1950. This resulted in several USACE improvements to the Dallas Floodway, completed in 1958.

The existing Upper Trinity River Feasibility Study (UTRFS) serves as an umbrella study to all USACE projects in the basin. The USACE initiated the UTRFS in response to the authority contained in the United States Senate Committee on Environment and Public Works Resolution dated April 22, 1988. This authorizing legislation for the overall study defines the area of investigations as the Upper Trinity River Basin, with specific emphasis on the Dallas—Fort Worth Metroplex. The UTRFS identified approximately 90 potential projects addressing flood risk management, ecosystem restoration, and recreation within the study area.

In May 1996, acting as the non-Federal sponsor on the on-going UTRFS, the North Central Texas Council of Governments coordinated with the USACE and City of Dallas to modify the UTRFS Cost Sharing Agreement to include an Interim Feasibility Study of the existing Dallas Floodway as part of the on-going UTRFS. The team assessed several flood risk management alternatives in the Dallas Floodway Interim Feasibility Study. The USACE and City of Dallas also developed additional environmental quality alternatives to benefit fish and wildlife habitat, water quality, and aesthetic properties while minimizing adverse impacts to existing cultural resources and flood risk management benefits. On November 29, 2005, the USACE published a Notice of Intent (NOI) in the Federal Register (70 FR 71477) to prepare a DEIS for proposed modifications to the existing Dallas Floodway based on the Interim Feasibility Study and held a public scoping meeting on December 13, 2005.

During this time, the City of Dallas developed another variation to the Trinity River Corridor Master Implementation Plan that included similar environmental quality measures and interior drainage system improvements to the Dallas Floodway, referred to as the BVP. During development of the various alternatives for the Dallas Floodway Interim Feasibility Study, the 2007 WRDA authorized the City of Dallas BVP. This authorization superseded the need to continue development of the Interim Feasibility Study and allowed implementation of the BVP and interior drainage system components if the USACE determines they are technically sound and environmentally acceptable.

In accordance with NEPA, a DEIS will be prepared to evaluate and compare ecosystem restoration, flood risk management, and recreation alternatives within and along the Dallas Floodway. The DEIS will also assess the impacts to the quality of the human environment associated with each alternative. Past channelization and clearing of the Dallas Floodway, along with urbanization, has significantly degraded the terrestrial and aquatic habitat along and within the Trinity River. Consequently, ecosystem restoration measures will be developed and evaluated to address the degraded habitats. In addition, recreation measures will be developed and evaluated as complements to proposed ecosystem restoration measures.

Alternatives for ecosystem restoration, flood risk management, and recreation enhancement will be developed and evaluated based on ongoing fieldwork and data collection and past studies conducted by the Corps of Engineers, the City of Dallas, and regulatory agencies. Ecosystem restoration alternatives that will be evaluated include creating meanders within the Trinity River, restoring, protecting and expanding the riparian corridor, improving aquatic habitat, creating riffle-pool complexes, and constructing wetlands. It is anticipated that ecosystem restoration measures would help improve water quality, enhance aquatic and terrestrial habitat, and minimize erosion and scouring along and within the river.

Alternatives for flood risk management measures will be evaluated from both a non-structural and structural aspect. Non-structural measures that will be evaluated include acquisition and removal of structures or flood proofing of structures for protection from potential future flood damage. Structural measures that will be evaluated include levee height modification by fill or addition of flood walls, changes in interior drainage by enlarging storage areas or increasing widths and depths and/or a combination of these measures.

Recreation measures that will be evaluated include the West, Natural, and Urban lakes, terraced playing fields, multipurpose trails, whitewater facilities, pedestrian bridges, utilities, parking facilities, amphitheaters, promenade, concession pads, boat/canoe access points, and passive recreation features, such as interpretive guidance, media, and picnic areas. Recreation measures will be developed to a scope and scale compatible with proposed ecosystem restoration measures without significantly diminishing ecosystem benefits.

The USACE will coordinate with the public and regulatory agencies to ensure full and open participation in the NEPA process and aid in the development of the DEIS. The USACE requests that all affected Federal, state, and local agencies, affected Indian tribes, and other interested parties participate in the NEPA process. The public will be invited to participate in the scoping process, invited to attend public meetings, and given the opportunity to review the DEIS. The location and time of the first public scoping meeting will be announced in the local news media. Release of the DEIS for public comment is scheduled for summer 2010. The exact release date, once established, will be announced in the local news media. Furthermore, a project Web site containing project information is available at http://www.dallasbvpeis.com.

Brenda S. Bowen,
Army Federal Register Liaison Officer.

[FR Doc. E8-30355 Filed 12-19-08; 8:45 am]

BILLING CODE 3720-58-P